DEPARTMENT OF COMMERCE

Submission for OMB Review; Comment Request

The Department of Commerce has submitted to the Office of Management and Budget (OMB) for clearance the following proposal for collection of information under the provisions of the Paperwork Reduction Act (44 U.S.C. Chapter 35).

Agency: U.S. Census Bureau.

Title: Annual Survey of Local Government Finances (School Systems).

Form Number(s): F-33, F-33-1, F-33-L1, F-33-L2, F-33-L3.

Agency Approval Number: 0607-0700.

Type of Request: Revision of a currently approved collection.

Burden: 4,009 hours.

Number of Respondents: 3,269.

Average Hours Per Response: 1 hour and 13 minutes.

Needs and Uses: The Census Bureau's collection of school district finance data and associated publications is the most comprehensive sources for pre-kindergarten through grade 12 finance data. The data are collected from the universe of school districts using uniform definitions and concepts of revenue, expenditure, debt, and assets. This effort is part of the Census Bureau's Annual Survey of State and Local Governments. Data collected from cities, counties, states, and special district governments are combined with data collected from local school systems to produce state and national totals of government spending. Local school system spending comprises a significant portion of total government spending. In 2002, public elementary-secondary expenditure accounted for over 30% of total local government outlays.

In addition to the historical significance in the state and local government statistics community, this collection of school system finance data has taken on added importance within the area of education statistics. With the reauthorization of the Elementary Secondary Education Act (ESEA) by the No Child Left Behind Act (NCLB) in 2001, there is increased demand for detailed information about our Nation's public schools. This focus has led to a demand for data reflecting student performance, graduation rates, and school finance policy. State legislatures, local leaders, university researchers, and parents increasingly rely on data to make substantive decisions about education. School district finance is a vital sector of the education data spectrum used by these stakeholders to form policy, develop new education strategies, and even decide where to locate their families.

We are requesting modifications to Form F-33. Minor local revenue items will be added to the Part I.A Local Revenue section. These items include revenue from “Sales of property and other capital assets,” “Fines and forfeits,” “Rents,” “Royalties,” and “Private donations.” In previous surveys, respondents were instructed to report these items under “Miscellaneous other local revenue.” They will be included as separate items beginning with this survey cycle to coincide with other government surveys conducted by the Census Bureau. The impact of reporting these new items is discussed in Question 5 and Question 12.

The education finance data collected and processed by the Census Bureau are an essential component of the government finances program and provide unique products for education data user groups.

Affected Public: State, local or tribal Government.

Frequency: Annually.

Respondent's Obligation: Voluntary.

Legal Authority: Title 13, Section 161, of the United States Code requires the Secretary of Commerce to conduct a census of governments every fifth year. Section 182 allows the Secretary to make annual surveys in other years. These authorizations include, but are not limited to, collecting and disseminating “data on taxes * * * governmental receipts, expenditures, indebtedness * * * of states, counties, cities, and other governmental units.”

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 30, 2006.
Gwellnar Banks,
Management Analyst, Office of the Chief Information Officer.

[FR Doc. E6-4887 Filed 4-4-06; 8:45 am]

BILLING CODE 3510-07-P